DEPARTMENT OF HOMELAND SECURITY

U.S. Citizenship and Immigration Services

[CIS No. 2397-06; DHS Docket No. USCIS-2006-0060]

RIN 1615-ZA42

Proposed Revised Content for English, U.S. History and Government Test for Naturalization Applicants

AGENCY: U.S. Citizenship and Immigration Services, DHS.

ACTION: Notice.

SUMMARY: This notice announces that U.S. Citizenship and Immigration Services (USCIS) will be conducting a pilot of a redesigned naturalization test. Applicants for naturalization must, among other things, demonstrate an understanding of the English language, a knowledge and understanding of the fundamentals of the history, and the principles and form of government in the United States. Currently the naturalization testing process and test content vary in each USCIS district office. USCIS plans to revise the naturalization testing process to ensure that the naturalization testing process is uniform. Thus, a newly redesigned English reading and writing test, as well as the U.S. history and government test, will be pilot tested in the following, randomly selected sites:

Albany, New York sub-office; Boston, Massachusetts, District Office; Kansas City, Missouri, District Office; Charleston, South Carolina sub-office; El Paso, Texas District Office; San Antonio, Texas District Office; Miami, Florida District Office; Denver, Colorado District Office; Tucson, Arizona Sub-Office; and Yakima, Washington Sub-Office. Based on the evaluation of the pilot, the final test will be implemented nationally beginning in 2008.

DATES: This notice is effective January 3, 2007.

FOR FURTHER INFORMATION CONTACT: Lynn L. Thai, Department of Homeland Security, U.S. Citizenship and Immigration Services, Office of Citizenship, 20 Massachusetts Avenue, NW., Room 5200, Washington, DC, 20529, telephone (202) 272-1721.

SUPPLEMENTARY INFORMATION:

Background

Applicants for naturalization must, among other things, demonstrate an understanding of the English language including an ability to speak, read, and write, words in ordinary usage. 8 U.S.C. 1423(a)(1); 8 CFR 312.1(c)(1)-(c)(2). Another requirement is that applicants for naturalization must demonstrate a knowledge and understanding of the fundamentals of the history, and the principles and form of government in the United States. Under USCIS regulations, an applicant for naturalization may satisfy these requirements by passing a citizenship test. 8 U.S.C. 1423(a)(2); 8 CFR 312.2(c). Certain applicants who meet specific age and length of residence thresholds or who have a physical or developmental disability or mental impairment may be exempt from the English and civics requirements.

In 1997, the U.S. Commission on Immigration Reform (the Commission) recommended that the former Immigration and Naturalization Service (INS) ¹ standardize the naturalization testing process. The Commission recommended that the naturalization tests be revised to better determine if applicants have a meaningful knowledge of U.S. history and government and can communicate in English. Also in 1997, the Department of Justice (DOJ) began to reengineer the naturalization process. With respect to naturalization testing, DOJ determined that it should develop a more uniform approach to testing, including standard and meaningful test content, standardized testing instruments and protocols, standard scoring, and standard levels of passing. The former INS began to redesign the testing process, with a goal of developing a new process that would be uniform, fair, and meaningful. The redesigned naturalization test USCIS plans to pilot is the culmination of test redesign efforts resulting from the Commission's recommendations and work in this area since that time.

¹ On March 1, 2003, INS transferred from the Department of Justice (DOJ) to the Department of Homeland Security (DHS), pursuant to the Homeland Security Act of 2002 (Pub. L. 107-296). INS' adjudication functions transferred to USCIS.

Current Testing Procedures

Currently USCIS District Adjudications Officers (DAOs) examine an applicant's English language skills and knowledge of U.S. history and government during the naturalization interview. DAOs generally test an applicant's ability to understand the English language while verifying that the information on his or her application for naturalization (Form N-400) is correct. The preferred manner of testing an applicant's reading ability by asking the applicant to read up to three sentences out loud and they test the applicant's ability to write in English by dictating from one to three English sentences to the applicant and having that applicant write in English what was dictated. Test content for the reading and writing portion of the test is taken from either former INS textbooks (United States History—1600 to 1987 (former INS publication M-289) and U.S. Government Structure (former INS publication M-291)), and from sample sentences in the Guide to Naturalization (M-476), which is available on USCIS' Web site, http://www.uscis.gov.

DAOs test an applicant's knowledge of U.S. history and government by asking up to 10 fundamental civics questions. For the U.S. history and government test, DAOs ask questions from either former INS textbooks or from a list of 96 questions published on the USCIS Web site. Each office's testing method may vary in terms of how the test is prepared and administered, and how the results are collected and evaluated. Test formats also vary among offices, even among offices that use the same test methods.

USCIS Plans To Revise the Tests and Testing Procedures

USCIS has worked with community-based organizations and other stakeholders to help ensure that the new test and testing procedures are developed and implemented fairly and consistently. USCIS' redesign project revises the English and U.S. history test items, and the test administration procedures.

During the redesign process of the U.S. history and government test, USCIS considered multiple perspectives, including views of U.S. history professors and experts, USCIS officers, and community-based organizations. It also reviewed State and local history standards, adult learning standards, citizenship preparation courses, and the current government authorized textbooks and other sound civics curricula.

Based on this review, USCIS is planning to retain the current U.S. history and government test format of asking 10 questions. Applicants need to answer six questions correctly to pass. However USCIS intends to replace the current trivia-based content of the questions with questions that will test applicants on the fundamentals of American democracy such as the rule of law, separation of powers, and unalienable rights. Making the test more meaningful will encourage civic learning and patriotism.

While redesigning the content of the English test, USCIS considered multiple perspectives, including the views of Teachers of English to Speakers of Other Languages (TESOL), selected English experts knowledgeable on adult learning standards (principally the National Reporting System (NRS) for adult education), USCIS officers, and community-based organizations. After considering these perspectives, USCIS intends to continue the current format for English testing. Applicants are asked to read a question and write a dictated sentence. However, USCIS intends to change the content of the dictation. Applicants will no longer be tested on everyday English sentences and phrases; under the revised procedures, the content for the reading and writing questions will be structured on civics.

Pilot Test

USCIS plans to conduct a pilot test in 10 randomly selected USCIS district and sub-offices, beginning in early 2007. The pilot test will be given to approximately 5,000 applicant volunteers. During the pilot, all applicants at the 10 selected pilot sites will be asked whether they want to participate in the pilot test, which will accompany the naturalization interview. If the applicant elects to take the pilot test and passes it, the adjudications officer will note in the file that the applicant has passed the reading, writing and civics test sections, and the current test will not be administered. Failure to pass the pilot test will not affect an applicant's eligibility of admission to citizenship. If the applicant elects to take the pilot test but fails the reading, writing and/or civics test section(s), the DAO will, without prejudice, administer the corresponding current test section(s) in the same sitting. If the applicant fails a given section of the current naturalization test, the applicant will be allowed another opportunity within 60-90 days to take the failed section(s) of the current test again. USCIS expects the pilot test to take approximately 5 minutes to administer to each willing applicant. The total length of the pilot test evaluation period is estimated to last up to 4 months. USCIS plans to collect and evaluate test administration procedures, scoring rules and procedures, and training procedures. This information will be gathered through information collected on each pilot testing situation, focus groups with DAOs who administer the pilot test as well as through observations of applicants taking the revised test.

Once all the information from the pilot test is collected, evaluated, and considered, USCIS will finalize a redesigned test. USCIS will produce study guides and work with community-based organizations to prepare applicants for the redesigned naturalization tests.

Paperwork Reduction Act

Examinations designated to test the aptitude, abilities, or knowledge of the person tested, and the collection of information and identification or classification in connection with such examinations, are not considered information collections under 5 CFR 1320.3(h)(7).

Dated: November 21, 2006.
Emilio T. Gonzalez,
Director, U.S. Citizenship and Immigration Services.

[FR Doc. E6-21548 Filed 12-18-06; 8:45 am]

BILLING CODE 4410-10-P